DEPARTMENT OF THE INTERIOR

Bureau of Land Management

[MT010-1220-DA]

Notice of Pryor Mountain Area Off-Highway Vehicle (OHV) Designation

AGENCY: Bureau of Land Management, DOI.

ACTION: Notice is hereby given that 92,000 acres of public land will be designated as open, closed, or limited to OHV use in the Pryor Mountain area pursuant to 43 CFR, Part 8342.1 and Executive Order 11644.

SUMMARY: The area affected has been previously designated. This notice is to update and correct errors in the September 25, 1979 and August 4, 1987 designations. The area affected is located approximately 80 miles south of Billings, Montana, in Carbon County described as follows:

All OHV use on the following public lands are limited to designated open roads and authorized use.

T.7S., R.25E., all public lands in Sections 22, 23, 27-29, Section 32 SESE, 33 & 34.

T.8S., R.25E., all public land in Sections 3, 4, 9, 10, 14, 15, 22 & 23 and in Section 5 all public lands east of the Pryor Gap Road.

T.8S., R.26E., all public lands in Sections 31 & 32.

T.9S., R.26E., all public lands in Sections 1-4, 10-15, 22-27, 34, 35, and public lands north of Helt Road [1016] in Sections 5, 6, 8, 9.

T.9S., R.27E., all public land.

T.8S., R.28E., all public land.

T.9S., R.28E., all public land.

The following roads are designated open within the Pryor Mountain area:

Bear Canyon Ridge Road [1031] from East Horsehaven [1030] T.9S., R.26E., Section 2, meandering north to the Custer National Forest in Section 2.

Bear Canyon Road [1014] from the intersection of Helt Road [1016], NW, Section 9, T.9S., R.26E., meandering northeast for approximately 3 miles to within ½ mile of the National forest where it divides into two roads, [1014, 1041] both of which are open to the Custer National Forest.

Bent Springs Road [1039] from T.7S., R.25E., Section 29 meandering east for about 2½ miles to the Custer National Forest.

Burnt-Timber Ridge Road [1018] starting in Section 25, T.9S., R.27E., meandering north for approximately 10 miles becoming USFS Road 2849 through public land Section 18, T.8S., R.28E.

Crooked Creek Road [1017] from T.9S., R.27E., Section 33, meandering north to the Custer National Forest Section 3, T.9S., R.27E.

Dandy Mine Road [1034] from junction of Red Pryor Mountain Road, T.9S., R.27E., Section 9 meandering east to the junction of Crooked Creek Road [1017] T.9S., R.27E., Section 9.

Demi John Flat Road [1035] is designated as open. The road starts at Crooked Creek Road [1017] at the north boundary of Section 3, T.9S., R.27E., and southerly approximately 2 miles to the south boundary of Section 10.

East Horsehaven Road [1030] starting in T.9S., R.27E., Section 18, meandering north then northeast in Section 6, T.9S., R.27E., to the Custer National Forest.

East Petroglyph Canyon Road [1040] from T.9S., R.26E., Section 24 meandering south for approximately 1¼ miles to Montana State land, Section 36.

Gyp Spring Road [1015] starting at T.10S., R.27E., Section 4, meandering NW for approximately 6 miles to T.9S., R.26E. Section 9.

Helt Road [1016] from T.9S., R.27E., Section 33 meandering north then west, approximately 14 miles to the NWNE, Section 1, T.9S., R.25E.

Inferno Canyon Road [1050] from T.8S., R.25E., south boundary of Section 11, USFS boundary extends southwesterly approximately 1½ miles to the south boundary of Section 15. Also that portion of the road which connects Bent Spring Road, Timber Canyon Road, Water Canyon Road and Inferno Canyon Road that crosses public land is designated open.

Lower Timber Ridge Road [1048] goes north across T.8S., R.25E. Section 4, ¾ mile to Timber Ridge Road [1047].

Miller Trail Road [1046] starts in SESE of Section 32, T.7N., R.25E. and proceeds approximately 2¼ miles to the NE corner, Section 34, Custer National Forest boundary.

Red Pryor Mountain Road [1022] starting T.9S., R.27E., Section 17, at the junction of Helt Road [1016] meandering north for approximately 3 miles to the Custer National Forest.

Stockman Trail [1013] from T.9S., R.26E., Section 6, meandering north for approximately 2 miles through the Custer National Forest.

Sykes Road East Loop [1033] from the intersection of Sykes Ridge Road [1019] in the NW Section 34, T.9S., R.28E., to the point it returns to Sykes Ridge Road [1019] in the NWNE Section 28.

Sykes Ridge Road [1019] starting at T.58N., R.95W., Section 23 meandering north for approximately 12 miles to T.8S., R.28E., Section 17.

Sykes Spring Road [1052] starts at junction of Sykes Ridge Road [1019], SW Section 23, T.58N., R95W north to Montana-Wyoming line.

Timber Canyon Road [1049] from T.7S., R.25E. Section 9 meandering northeast for about 1 mile then ends.

Timber Ridge Road [1047] from USFS boundary at the east boundary of Section 3, T.8S., R.25E., and extends west approximately 2 miles to the west boundary of the SENW, Section 4.

Water Canyon Road [1051] T.8S., R.25E., Section 10 from west line of Section 10 approximately 1 mile to Custer National Forest.

West Horsehaven Road [1021] starting in T.9E., R.26E., Section 10 meandering northeast then southeast to the junction of East Horsehaven [1030].

West Petroglyph Canyon Road [1036] from T.9S., R.26E., Section 24 meandering southeast for approximately 1¼ miles to T.9S., R.26E., Section 26.

DATES: Any issues or concerns should be submitted to the BLM at the below address on or before May 22, 2000.

FOR FURTHER INFORMATION CONTACT: David Jaynes, Assistant Field Manager, BLM, PO BOX 36800, 5001 Southgate Drive, Billings, Montana 59107 or 406-896-5013.

Dated: April 14, 2000.
Sandra S Brooks,
Field Manager.

[FR Doc. 00-9891 Filed 4-19-00; 8:45 am]

BILLING CODE 4310-$$-P